DEPARTMENT OF THE INTERIOR

Bureau of Land Management

[CA-940-01-5410-10-B119; CACA 41159]

Conveyance of Mineral Interests in California; Correction

AGENCY: Bureau of Land Management, Interior.

ACTION: Correction.

SUMMARY: This notice corrects the following Notice of Segregation:

(1) Notice of Segregation which was published on February 18, 2000 on page 8440 (65 FR 8440), as FR Doc. 00-3957:

On page 8440, in the second column, under T. 26 S., R. 37 E., which reads “Sec. 7, N½S½SE¼NW¼, S½S½SE¼NW¼, N½S½SE¼NW¼.” is hereby corrected to read “Sec. 7, N½S½SE¼ NW¼, S½S½SE¼NW¼, N½N½NE¼SW¼.”

David Mcilnay,
Chief, Branch of Lands.

[FR Doc. 00-7287 Filed 3-23-00; 8:45 am]

BILLING CODE 4310-40-P